DEPARTMENT OF STATE

[Public Notice 5633]

30-Day Notice of Proposed Information Collection: DS-4024, DS-4024e, American Citizens Services Internet Based Registration System (IBRS), OMB Number 1405-0152

ACTION: Notice of request for public comment and submission to OMB of proposed collection of information.

SUMMARY: The Department of State has submitted the following information collection request to the Office of Management and Budget (OMB) for approval in accordance with the Paperwork Reduction Act of 1995.

• Title of Information Collection: American Citizens Services Internet Based Registration System (IBRS).

• OMB Control Number: 1405-0152.

• Type of Request: Revision of Currently Approved Collection. The new version of IBRS includes the following data-related changes: Registrants are now able to add multiple addresses, phones and e-mails; there is no longer a short-term/long-term distinction, so all users are required to select a U.S. embassy or consulate when registering a trip; registrants can now sign up for embassy/consulate specific e-mail lists and this revision provides the option of completing a paper version of the registration which may be e-mailed, faxed, mailed to U.S. embassies or consulates or executed in person to be hand entered in the IBRS database by the U.S. embassy or consulate.

• Originating Office: CA/OCS.

• Form Number: DS-4024, DS-4024e.

• Respondents: American Citizens Traveling Abroad.

• Estimated Number of Respondents: 500,000.

• Estimated Number of Responses: 500,000.

• Average Hours Per Response: 10 minutes.

• Total Estimated Burden: 83,333.

• Frequency: On occasion.

• Obligation to Respond: Voluntary.

DATE(S): Submit comments to the Office of Management and Budget (OMB) for up to 30 days from December 4, 2006.

ADDRESSES: Direct comments and questions to Katherine Astrich, the Department of State Desk Officer in the Office of Information and Regulatory Affairs at the Office of Management and Budget (OMB), who may be reached at 202-395-4718. You may submit comments by any of the following methods:

• E-mail: kastrich@omb.eop.gov. You must include the DS form number, information collection title, and OMB control number in the subject line of your message.

• Mail (paper, disk, or CD-ROM submissions): Office of Information and Regulatory Affairs, Office of Management and Budget, 725 17th Street, NW., Washington, DC 20503.

• Fax: 202-395-6974.

FOR FURTHER INFORMATION CONTACT: Direct requests for additional information regarding the collection listed in this notice, including requests for copies of the proposed information collection and supporting documents, to Monica A. Gaw, CA/OCS/PRI, U.S. Department of State, SA-29, 4th Floor, Washington, DC 20520, who may be reached on 202-736-9107 or via e-mail at ASKPRI@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The American Citizens Services Internet Based Registration System (IBRS) makes it possible for U.S. nationals to register on-line from anywhere in the world. In the event of a family emergency, natural disaster or international crisis, U.S. embassies and consulates rely on this registration information to provide critical information and assistance to them.

Methodology: 99% of responses are received via electronic submission on the Internet. The service is available on the Department of State, Bureau of Consular Affairs Web site http://travel.state.gov at https://travelregistration.state.gov/ibrs/. The paper version of the collection permits respondents who do not have Internet access to provide the information to the U.S. embassy or consulate by fax, e-mail, mail or in person.

Dated: November 20, 2006.
Maura Harty,
Assistant Secretary, Bureau of Consular Affairs, Department of State.

[FR Doc. E6-20479 Filed 12-1-06; 8:45 am]

BILLING CODE 4710-06-P